DEPARTMENT OF COMMERCE

National Oceanic and Atmospheric Administration

RIN 0648-XK37

Pacific Fishery Management Council; Public Meetings

AGENCY: National Marine Fisheries Service (NMFS), National Oceanic and Atmospheric Administration (NOAA), Commerce.

ACTION: Notice of public meetings.

SUMMARY: The Pacific Fishery Management Council's (Council) Coastal Pelagic Species (CPS) advisory bodies will hold meetings, which are open to the public, on October 7-9, 2008. The primary purpose of the meetings is to review the current Pacific sardine stock assessment update and draft terms of reference for the 2009 CPS stock assessment review process.

DATES: The Coastal Pelagic Species Management Team (CPSMT) and the Scientific and Statistical Committee's (SSC) CPS Subcommittee will meet in a joint session on Tuesday, October 7, 2008, from 8 a.m. until business for the day is completed. The CPSMT will hold a work session on Wednesday, October 8, 2008, from 8 a.m. until business for the day is completed. The Coastal Pelagic Species Advisory Subpanel (CPSAS) will meet Thursday, October 9, 2008, from 8 a.m. until business for the day is completed.

ADDRESSES: All meetings will be held in the Large Conference Room at the office of the Pacific Fishery Management Council, 7700 NE Ambassador Place, Suite 101, Portland, OR 97220-1384; telephone: (503) 820-2280.

Council address: Pacific Fishery Management Council, 7700 NE Ambassador Place, Suite 101, Portland, OR 97220-1384.

FOR FURTHER INFORMATION CONTACT: Mr. Mike Burner, Pacific Fishery Management Council; telephone: (503) 820-2280.

SUPPLEMENTARY INFORMATION: The CPSMT, the SSC CPS Subcommittee, and the CPSAS will review the current Pacific sardine stock assessment update and the terms of reference for the 2009 CPS stock assessment reviews. The CPSMT and the CPSAS will also develop harvest guideline and management measure recommendations for the 2009 Pacific sardine fishery. The CPSMT and CPSAS will develop recommendations for Council consideration at the November 1-7, 2008, meeting in San Diego, CA, and address other issues relating to CPS management, including current research on market squid, Pacific sardine, and the California Current Ecosystem, planning the 2009 review of Pacific sardine allocation, and implementation of the reauthorized Magnuson-Stevens Fishery Conservation and Management Act. No management actions will be decided by the CPSMT, the SSC CPS Subcommittee, or the CPSAS.

Although non-emergency issues not contained in the meeting agendas may be discussed, those issues may not be the subject of formal action during these meetings. Advisory body action will be restricted to those issues specifically listed in this notice and any issues arising after publication of this notice that require emergency action under Section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at (503) 820-2280 at least 5 days prior to the meeting date.

Dated: September 8, 2008.
Tracey L. Thompson,
Acting Director, Office of Sustainable Fisheries, National Marine Fisheries Service.

[FR Doc. E8-21096 Filed 9-10-08; 8:45 am]

BILLING CODE 3510-22-S